DEPARTMENT OF TRANSPORTATION

Federal Highway Administration

[Docket No. FHWA-2012-0083]

Agency Information Collection Activities: Request for Comments for a New Information Collection

AGENCY: Federal Highway Administration (FHWA), DOT.

ACTION: Notice and request for comments.

SUMMARY: FHWA invites public comments about our intention to request the Office of Management and Budget's (OMB) approval for a new information collection, which is summarized below under SUPPLEMENTARY INFORMATION.

DATES: Please submit comments by September 14, 2012.

ADDRESSES: You may send comments within 30 days to the Office of Information and Regulatory Affairs, Office of Management and Budget, 725 17th Street NW., Washington, DC 20503, Attention DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2012-0083.

FOR FURTHER INFORMATION CONTACT: Owen Lindauer, Ph.D., 202-366-2655, Office of Program Development and Environmental Review (HEPE-10), Office of Planning Environment and Realty, Federal Highway Administration, Department of Transportation, 1200 New Jersey Ave. SE., Washington, DC 20590. Office hours are from 7:30 a.m. to 4:00 p.m., Monday through Friday, except Federal holidays.

SUPPLEMENTARY INFORMATION: Title: USDOT Survey of the USE of Categorical Exclusions in Transportation Projects Since 2005.

OMB Control #: 2125-XXXX.

Background: U.S. Department of Transportation (USDOT) is directed to conduct a survey in section 1318 of Moving Ahead for Progress in the 21st Century (MAP-21) not later than 60 days after the date of enactment (October 1, 2012) to survey the use of categorical exclusions in transportation projects since 2005 and publish the review of the survey that includes a description of the types of actions categorically excluded, and any requests previously received by the Secretary for new categorical exclusions. This provision of law also directs USDOT solicit requests from State Departments of Transportation, Transit authorities, Metropolitan Planning Organizations, and other government agencies for new categorical exclusions. A report of the results of this survey must be published within this same 60 day period. Then, this legislation requires that a notice of proposed rulemaking be published within 120 days of enactment of MAP-21.

Respondents: State, Local, and Tribal Governments. The target group of respondents are individuals who are responsible for implementing the transportation project development process and are familiar with the environmental requirements for processing projects that are categorically excluded from the requirements to prepare either an environmental impact statement (EIS) or an environmental assessment (EA). The target groups identified in legislation include individuals with this knowledge and experience who work at State Departments of Transportation, Transit authorities, Metropolitan Planning Organizations and other agencies.

State Departments of Transportation = 52, MPOs = about 375, Transit agencies = about 50, Tribal and other government agencies = as many as 600.

Total respondents = 1077.

Total burden hours = 2154 (2 hours per response).

Estimated Average Burden per Response: The estimated average reporting burden per response is two hours.

Estimated Total Annual Burden: This survey will occur once. The estimated total burden for all respondents is 2,154 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued on: August 8, 2012.
Steven Smith,
Chief, Information Technology Division.

[FR Doc. 2012-19872 Filed 8-14-12; 8:45 am]

BILLING CODE 4910-22-P